DEPARTMENT OF TRANSPORTATION

Federal Railroad Administration

Notice of Informational Filing

In accordance with Section 236.913 of Title 49 of the Code of Federal Regulations (CFR), notice is hereby given that the Federal Railroad Administration (FRA) has received an informational filing from the Northeast Illinois Regional Commuter Railroad Corporation (Metra) to permit phased revenue testing of the railroad's processor-based train control system. The informational filing is described below, including the requisite docket number where the informational filing and any related information may be found. The document is also available for public inspection.

Northeast Illinois Regional Commuter Railroad Corporation

[Docket Number FRA-2008-0057]

Metra has submitted an informational filing to FRA to permit phased revenue testing of the railroad's processor-based train control system identified as Electronic Train Management System (ETMS). The informational filing addresses the requirements under 49 CFR 236.913(j)(1).

Specifically, the informational filing contains a description of the ETMS product, an operational concepts document, and a test plan. A temporary waiver petition to support phased revenue testing of ETMS was submitted separately. The ETMS is a locomotive-centric, non-vital system designed to be overlaid on existing methods of operation and to provide an improved level of railroad safety through enforcement of a train's authority limits and both permanent and temporary speed restrictions.

Metra desires to commence phased revenue testing as soon as practicable, contingent upon FRA's acceptance and approval of their informational filing. Metra intends to test ETMS on its Joliet Sub-District between Chicago Terminal and Joliet, Illinois, and its Beverly Sub-District between Gresham Junction and Western Avenue Junction.

Interested parties are invited to participate in these proceedings by submitting written views, data, or comments. All communications concerning these proceedings should identify the appropriate docket number (Docket Number FRA-2008-0057) and may be submitted by one of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

FRA does not anticipate scheduling a public hearing in connection with these proceedings since the facts do not appear to warrant a hearing. If any interested party desires an opportunity for oral comment, they should notify FRA, in writing, before the end of the comment period and specify the basis for their request.

Communications received within 30 days of the date of this notice will be considered by FRA before final action is taken. Comments received after this period will be considered as far as practicable. All written communications concerning these proceedings are available for examination during regular business hours (9 a.m.-5 p.m.) at the DOT Docket Management Facility, 1200 New Jersey Avenue, SE., Room W12-140, in Washington DC. All documents in the public docket are also available for inspection and copying on the internet at http://www.regulations.gov.

Anyone is able to search the electronic form of any written communications and comments received into any of our dockets by name of the individual submitting the comment (or signing the comment, if submitted on behalf of an association, business, labor union, etc.). You may review the DOT's complete Privacy Act Statement in the Federal Register published on April 11, 2000 (Volume 65, Number 70; Pages 19477-78) or at http://dot.gov/privacy.html.

Issued in Washington, DC on September 28, 2010.
Robert C. Lauby,
Deputy Associate Administrator for Regulatory and Legislative Operations.

[FR Doc. 2010-25013 Filed 10-4-10; 8:45 am]

BILLING CODE 4910-06-P